DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Larimer (FEMA Docket No.: B-2175). | City of Fort Collins (21-08-0194P). | The Honorable Jeni Arndt, Mayor, City of Fort Collins, P.O. Box 580, Fort Collins, CO 80522. | Stormwater Utilities Department, 700 Wood Street, Fort Collins, CO 80521. | Jan. 12, 2022 | 080102
Larimer (FEMA Docket No.: B-2175). | Town of Berthoud (21-08-0072P). | Mr. Chris Kirk, Administrator, Town of Berthoud, P.O. Box 1229, Berthoud, CO 80513. | Public Works Department, 807 Mountain Avenue, Berthoud, CO 80513. | Jan. 14, 2022 | 080296
Larimer (FEMA Docket No.: B-2175). | Unincorporated areas of Larimer County (21-08-0072P). | The Honorable John Kefalas, Chairman, Larimer County Board of Commissioners, 200 West Oak Street, Suite 2200, Fort Collins, CO 80521. | Larimer County Engineering Department, 200 West Oak Street, Suite 3000, Fort Collins, CO 80521. | Jan. 14, 2022 | 080101
Larimer (FEMA Docket No.: B-2175). | Unincorporated areas of Larimer County (21-08-0194P). | The Honorable John Kefalas, Chairman, Larimer County Board of Commissioners, 200 West Oak Street, Suite 2200, Fort Collins, CO 80521. | Larimer County Engineering Department, 200 West Oak Street, Suite 3000, Fort Collins, CO 80521. | Jan. 14, 2022 | 080101
Florida:
Charlotte (FEMA Docket No.: B-2171). | Unincorporated areas of Charlotte County (21-04-5021P). | The Honorable Bill Truex, Chairman, Charlotte County Board of Commissioners, 18500 Murdock Circle, Suite 536, Port Charlotte, FL 33948. | Charlotte County Community Development Department, 18400 Murdock Circle, Port Charlotte, FL 33948. | Jan. 10, 2022 | 120061
Lee (FEMA Docket No.: B-2178). | City of Sanibel (21-04-4276P). | The Honorable Holly D. Smith, Mayor, City of Sanibel, 800 Dunlop Road, Sanibel, FL 33957. | Community Services Department, 800 Dunlop Road, Sanibel, FL 33957. | Jan. 12, 2022 | 120402
Polk (FEMA Docket No.: B-2175). | City of Lakeland (20-04-4215P). | The Honorable Bill Mutz, Mayor, City of Lakeland, 228 South Massachusetts Avenue, Lakeland, FL 33801. | Public Works Department, Lakes and Stormwater Division, 407 Fairway Avenue, Lakeland, FL 33801. | Jan. 13, 2022 | 120267
Polk (FEMA Docket No.: B-2171). | Unincorporated areas of Polk County (20-04-4035P). | Mr. Bill Beasley, Polk County Manager, 330 West Church Street, Bartow, FL 33831. | Polk County Floodplain Management Department, 330 West Church Street, Bartow, FL 33831. | Jan. 6, 2022 | 120261
Polk (FEMA Docket No.: B-2175). | Unincorporated areas of Polk County (20-04-4215P). | The Honorable Rick Wilson, Chairman, Polk County Board of Commissioners, P.O. Box 9005, Drawer BC01, Bartow, FL 33831. | Polk County Land Development Division 330 West Church Street, Bartow, FL 33830. | Jan. 13, 2022 | 120261
Kentucky: Jefferson (FEMA Docket No.: B-2171). | Louisville-Jefferson County Metro Government (21-04-2298P). | The Honorable Greg Fischer, Mayor, Louisville-Jefferson County Metro Government, 527 West Jefferson Street, Louisville, KY 40202. | Louisville-Jefferson County Metropolitan Sewer District, 700 West Liberty Street, Louisville, KY 40203. | Jan. 3, 2022 | 210120
Louisiana: Ascension (FEMA Docket No.: B-2159). | Unincorporated areas of Ascension Parish (20-06-3506P). | The Honorable Clint Cointment, President, Ascension Parish, 615 East Worthey Street, Gonzales, LA 70737. | Ascension Parish Governmental Complex, 615 East Worthey Street, Gonzales, LA 70737. | Oct. 15, 2021 | 220013
Massachusetts: Barnstable (FEMA Docket No.: B-2171). | Town of Falmouth (21-01-1047P). | The Honorable Douglas C. Brown, Chairman, Town of Falmouth Board of Selectmen, 59 Town Hall Square, Falmouth, MA 02540. | Inspectional Services Department, 59 Town Hall Square, Falmouth, MA 02540. | Jan. 10, 2022 | 255211
South Carolina:
Charleston (FEMA Docket No.: B-2171). | Town of Mount Pleasant (21-04-3056P). | The Honorable Will Haynie, Mayor, Town of Mount Pleasant, 100 Ann Edwards Lane, Mount Pleasant, SC 29464. | Town Hall, 100 Ann Edwards Lane, Mount Pleasant, SC 29464. | Jan. 6, 2022 | 455417
Charleston (FEMA Docket No.: B-2171). | Unincorporated areas of Charleston County (21-04-3056P). | The Honorable Teddie E. Pryor, Sr., Chairman, Charleston County Council, 4045 Bridge View Drive, North Charleston, SC 29405. | Charleston County Building Department, 4045 Bridge View Drive, North Charleston, SC 29405. | Jan. 6, 2022 | 455413
Texas:
Midland (FEMA Docket No.: B-2171). | City of Midland (21-06-2222P). | The Honorable Patrick Payton, Mayor, City of Midland, 300 North Loraine Street, Midland, TX 79701. | City Hall, 300 North Loraine Street, Midland, TX 79701. | Jan. 7, 2022 | 480477
Montgomery (FEMA Docket No.: B-2175). | City of Conroe (21-06-0853P). | The Honorable Jody Czajkoski, Mayor, City of Conroe, 700 Metcalf Street, Conroe, TX 77301. | City Hall, 700 Metcalf Street, Conroe, TX 77301. | Jan. 7, 2022 | 480484
Montgomery (FEMA Docket No.: B-2175). | Unincorporated areas of Montgomery County (21-06-0853P). | The Honorable Mark J. Keough, Montgomery County Judge, 501 North Thompson Street, Suite 401, Conroe, TX 77301. | Montgomery County Commissioners Court Building, 501 North Thompson Street, Suite 103, Conroe, TX 77301. | Jan. 7, 2022 | 480483
Utah: Salt Lake (FEMA Docket No.: B-2175). | City of West Valley City (21-08-0105P). | Mr. Wayne T. Pyle, Manager, City of West Valley City, 3600 South Constitution Boulevard, West Valley City, UT 84119. | Engineering Division, 3600 South Constitution Boulevard, West Valley City, UT 84119. | Jan. 10, 2022 | 490245
Virginia:
Prince William (FEMA Docket No.: B-2178). | City of Manassas (21-03-0728P). | Mr. W. Patrick Pate, City of Manassas Manager, 9027 Center Street, Manassas, VA 20110. | Department of Public Works, 8500 Public Works Drive, Manassas, VA 20110. | Jan. 14, 2022 | 510122
Washington (FEMA Docket No.: B-2175). | Unincorporated areas of Washington County (21-03-0800P). | Mr. Jason Berry, Washington County Administrator, 1 Government Center Place, Suite A, Abingdon, VA 24210. | Washington County Government Center, 1 Government Center Place, Suite A, Abingdon, VA 24210. | Jan. 6, 2022 | 510168

[FR Doc. 2022-02864 Filed 2-9-22; 8:45 am]

BILLING CODE 9110-12-P